ENVIRONMENTAL PROTECTION AGENCY

40 CFR Part 52

[GA-60, GA-61-200332(b); FRL-7524-5]

Approval and Promulgation of Implementation Plans; Georgia: Approval of Revisions to the Georgia State Implementation Plan

AGENCY: Environmental Protection Agency (EPA).

ACTION: Proposed rule.

SUMMARY: The EPA proposes to approve the State Implementation Plan (SIP) revisions submitted by the State of Georgia on July 1, 2002, and January 10, 2003. These submittals contain revisions to Georgia's Rules for Air Quality Control and Rules for Enhanced Inspection and Maintenance. In the Final Rules Section of this Federal Register, the EPA is approving the State's SIP revisions as a direct final rule without prior proposal because the Agency views these as a noncontroversial submittals and anticipates no adverse comments. A detailed rationale for the approval is set forth in the direct final rule. If no adverse comments are received in response to this action, no further activity is contemplated. If EPA receives adverse comments, the direct final rule will be withdrawn and all public comments received will be addressed in a subsequent final rule based on this proposed rule. The EPA will not institute a second comment period on this document. Any parties interested in commenting on this document should do so at this time.

DATES: Written comments must be received on or before August 8, 2003.

ADDRESSES: Comments may be submitted by mail to: Scott M. Martin; Regulatory Development Section; Air Planning Branch; Air, Pesticides and Toxics Management Division; U.S. Environmental Protection Agency Region 4; 61 Forsyth Street, SW., Atlanta, Georgia 30303-8960. Comments may also be submitted electronically, or thorough hand delivery/courier. Please follow the detailed instructions described in the direct final rule, Supplementary Information section [Part (I)(B)(1)(i) through (iii)] which is published in the Rules Section of this Federal Register.

FOR FURTHER INFORMATION CONTACT: Scott M. Martin, Regulatory Development Section, Air Planning Branch, Air, Pesticides and Toxics Management Division, Region 4, U.S. Environmental Protection Agency, 61 Forsyth Street, SW., Atlanta, Georgia 30303-8960. The telephone number is (404) 562-9036. Mr. Martin can also be reached via electronic mail at martin.scott@epa.gov.

SUPPLEMENTARY INFORMATION: For additional information see the direct final rule which is published in the Rules section of this Federal Register.

Dated: June 26, 2003.
A. Stanley Meiburg,
Acting Regional Administrator, Region 4.

[FR Doc. 03-17205 Filed 7-8-03; 8:45 am]

BILLING CODE 6560-50-P